DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 2, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Commercial Floriculture Survey.

OMB Control Number: 0535-0093.

Summary of Collection: The primary function of the National Agricultural Statistics Service (NASS) is to prepare and issue current official State and national estimates of crop and livestock production. The Commercial Floriculture Survey (CFS) is conducted annually and represents all growers that produced and sold $10,000 or more of floriculture crops during the previous year. Currently, the survey is conducted in all 50 States. General authority for these data collection activities is granted under 7 U.S.C. 2204.

Need and Use of the Information: The CFS is conducted annually to collect total production and sales figures for the floriculture industry. Since many items included in this survey are seasonal, such as cut roses for Valentine's Day, bedding plants for summertime, chrysanthemums for fall, and poinsettias for Christmas, the survey must be conducted annually to get a complete data set for this industry.

Description of Respondents: Farms; Businesses or other for-profits.

Number of Respondents: 12,500.

Frequency of Responses: Reporting: Annually.

Total Burden Hours: 11,673.

National Agricultural Statistics Service

Title: Cost of Pollination Survey.

OMB Control Number: 0535-0258.

Summary of Collection: The primary objectives of the National Agricultural Statistics Service (NASS) are to prepare and issue official State and national estimates of crop and livestock production, disposition and prices, economic statistics, and environmental statistics related to agriculture and to conduct the Census of Agriculture and its follow-on surveys. Pollinators (honeybees) are vital to the agricultural industry for producing food for the world's population. NASS' primary focus will center on costs associated with honey bee pollination, but will also collect some basic information relating to other forms of pollination. General authority for these data collection activities is granted under 7 U.S.C. 2204.

Need and Use of The Information: NASS plans to collect economic data under this new collection using the “Cost of Pollination Inquiry” survey. Data relating to the targeted crops (fruits, nuts, vegetables and specialty crops) will be collected for the total number of acres that rely on honey bee pollination, the number of honey bee colonies that were used on those acres, and any cash fees associated with honey bee pollination. By publishing both regional and crop specific pollination costs, both, crop farmers and beekeepers will be able to benefit from this additional data.

Description of Respondents: Farms; Businesses or other for-profits.

Number of Respondents: 16,050.

Frequency of Responses: Reporting: Annually.

Total Burden Hours: 5,231.

Levi S. Harrell,
Departmental Information Collection Clearance Officer.

[FR Doc. 2024-25484 Filed 10-31-24; 8:45 am]

BILLING CODE 3410-20-P